DEPARTMENT OF HEALTH AND HUMAN SERVICES

Centers for Disease Control and Prevention

[30DAY-46-02]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project

Evaluability Assessment of the Rape Prevention and Education Grant Program—New—National Center for Injury Prevention and Control (NCIPC), Centers for Disease Control and Prevention (CDC). The Rape Prevention and Education (RPE) Grant Program strengthens violence against women prevention efforts by supporting increased awareness, education and training, and the operation of hotlines. The purpose of this program is to award formula grants to States and Territories to be used for RPE programs conducted by rape crisis centers, state sexual assault coalitions, and other public and private nonprofit entities.

Although the Rape Prevention and Education program has been funded since 1996 little is known about how the funds are allocated and utilized in each state and what each states public health needs are with regard to rape prevention and education. In order to effectively administer and collaboratively work with states to enhance the utilization of these funds, the CDC needs to know how these funds are allocated, what activities are being conducted with these funds and the kinds of data they are collecting. The primary objectives of this study are to: 1. Document the intended goals and objectives of the RPE program as it relates to the activities of state health departments and sexual assault coalitions, from the perspective of various stakeholder levels (e.g., National, state and local); 2. Assess the allocation mechanisms, uses, and impact of the funds for RPE as they relate to these documented intentions; and, 3. Assess public health needs of states and local programs in terms of knowledge, skills, resources, and barriers to effective implementation.

To meet these objectives, a variety of data collection tasks will be employed. A critical review of the published literature and related materials pertaining to the monies for RPE will be conducted to provide guidance for the survey instrument development. Two e-mail surveys will be conducted: one with the state health department RPE coordinators and the other with sexual assault coalition directors. Each survey instrument will take approximately 30 minutes to complete. Site visits will be conducted with a sample of 15 sites to obtain more detailed information about the RPE programs and the current systems in place. Sites will be purposefully selected to maximize variability and interviews will be conducted with both the state health department RPE coordinators and the state sexual assault coalition directors. The estimated annualized burden is 427 hours.

Instrument | No. of respondents | No. of responses/ respondent | Avg. burden/ response (in hours)
REP Grant Program Web Survey
DOH RPE Coordinators | 59 | 1 | 45/60
Coalition Directors | 52 | 1 | 45/60
Other Agency Reps | 10 | 1 | 45/60
RPE Grant Program Site Visit Interview Guide
DOH RPE Coordinators | 15 | 1 | 180/60 *
Coalition Directors | 13 | 1 | 180/60 *
Other Agency Reps | 4 | 1 | 180/60 *
RPE Grant Program Local Provider Focus Group Guide | 120 | 1 | 240
* This time also includes time for a conference call with DOH RPE Coordinators and Sexual Assault Coalition Directors.

Dated: August 21, 2002.
Julie Fishman,
Acting Associate Director for Policy, Planning and Evaluation, Centers for Disease Control and Prevention.

[FR Doc. 02-21876 Filed 8-27-02; 8:45 am]

BILLING CODE 4163-18-P